DEPARTMENT OF COMMERCE

Census Bureau

Agency Information Collection Activities; Submission to the Office of Management and Budget (OMB) for Review and Approval; Comment Request; The American Community Survey (ACS) and Puerto Rico Community Survey (PRCS)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 20, 2023, during a 60-day comment period. This notice allows for an additional 30 days for public comments.

Agency: U.S. Census Bureau, Department of Commerce.

Title: The American Community Survey and the Puerto Rico Community Survey.

OMB Control Number: 0607-0810.

Form Number(s): ACS-1, ACS-1(SP), ACS-1(PR), ACS-1(PR)SP, ACS-1(GQ), ACS-1(PR)(GQ), ACS Housing Unit internet questionnaire (no form number), ACS nonresponse follow up CAPI (Computer Assisted Personal Interview) electronic instrument (no form number), ACS Failed Edit Follow up CATI (Computer Assisted Telephone Interview) electronic instrument (no form number), ACS Telephone Questionnaire Assistance CATI electronic instrument (no form number), ACS Group Quarters internet listing instrument (no form number), ACS Group Quarters Facility Questionnaire CAPI electronic instrument (no form number), ACS Group Quarters internet electronic instrument (no form number), ACS Group Quarters Resident CAPI electronic instrument (no form number), and ACS Reinterview CATI/CAPI electronic instrument (no form number).

Type of Request: Regular submission. Request for a Revision of a Currently Approved Collection.

Number of Respondents: 3,576,000 for household respondents; 20,100 for facility contacts in group quarters; 170,900 people in group quarters; 22,900 households for reinterview; and 1,400 group quarters facility contacts for reinterview. The total estimated number of respondents is 3,791,000.

Average Hours per Response: 40 minutes for the average household questionnaire; 15 minutes for a group quarters facility contact questionnaire; 25 minutes for a group quarters person questionnaire; 10 minutes for a household reinterview; 10 minutes for a group quarters facility contact reinterview.

Burden Hours: 2,384,000 for household respondents; 5,025 for contacts in group quarters; 71,208 for group quarters residents; 3,817 households for reinterview; and 233 group quarters contacts for reinterview. The estimate is an annual average of 2,464,283 burden hours.

Needs and Uses: The U.S. Census Bureau requests authorization from the Office of Management and Budget (OMB) for revisions to the American Community Survey (ACS). The ACS is one of the Department of Commerce's most valuable data products, used extensively by businesses, nongovernmental organizations (NGOs), local governments, and many federal agencies. In conducting this survey, the Census Bureau's top priority is respecting the time and privacy of the people providing information while preserving its value to the public.

In June 2018, the Census Bureau solicited proposals for new or revised ACS content from over 25 federal agencies. For new questions, the proposals explained why these data were needed and why other data sources that provide similar information were not sufficient. Proposals for new content were reviewed to ensure that the requests met a statutory or regulatory need for data at small geographic levels or for small populations.

The Census Bureau, in consultation with the OMB and the Interagency Council on Statistical Policy Subcommittee on the ACS, determined which proposals moved forward. Approved proposals for new content or changes to current content were tested via the ACS content change process. This process included cognitive testing and field testing of several topics, including household roster, educational attainment, health insurance coverage, disability, and labor force questions. The testing also included evaluating the addition of three new topics on electric vehicles, sewage disposal, and solar panels.

A Federal Register notice (FRN) posted on February 9, 2021, solicited public comments on the initial proposals for testing changes and additions to the ACS content. Another FRN was posted on March 21, 2022, which contained more details on the proposed changes for each topic and the operational details of the 2022 ACS Content Test. The most recent FRN, posted on October 20, 2023, invited the public to comment on the proposed changes to the 2025 ACS and PRCS after analyzing the result of the 2022 Content Test. The public provided comments through December 19, 2023. The Census Bureau received over 12,000 comments on the most recent 60-day FRN for the 2025 ACS content changes. Over 98 percent of the comments received were about the changes to the disability questions. One point three percent were on the other topics with a proposed change or the topic was not specified in the comment. An additional 0.7 percent were on other topics or proposed new questions not included in the 2022 ACS Content Test, general comments about the ACS, recommendations about data collection methods, or were not applicable to the 60-day FRN.

The majority of commenters expressed concerns about the changes proposed to the disability questions and asked the Census Bureau not to proceed with the changes. Most commenters also expressed dissatisfaction with not having been included in the process. They indicated that the Census Bureau should conduct more comprehensive public engagement before proposing modifications to the disability questions. Some of these comments also suggested that a taskforce be formed. Many letters incorporated the motto and sentiment of, “Nothing About Us Without Us.” In deference to the large number (12,188) of comments that expressed concerns about the proposed change to the disability questions, the Census Bureau plans to retain the current ACS disability questions for the 2025 ACS. Refer to the Census Bureau Director's Blog on the Next Steps on the ACS Disability Questions.

The vast majority of comments on the other topics acknowledged the value of the data from the new and revised questions. The Census Bureau will proceed with the proposal of changes on all other topics for the 2025 ACS.

The Census Bureau and National Center for Health Statistics (NCHS) stand behind the statistical validity of the 2022 ACS Content Test results and the practical utility of the proposed disability change. However, we recognize that statistical validity and practical utility for NCHS should be only two components of the decision about whether to change questions on the ACS—we must also consider the needs of other data users inside and outside of government.

ACS Background

The Census Bureau developed the ACS to collect and update demographic, social, economic, and housing data every year that are essentially the same as the “long-form” data that the Census Bureau formerly collected once a decade as part of the decennial census. The ACS is an ongoing monthly survey that collects detailed housing and socioeconomic data from about 3.54 million addresses in the United States and about 36,000 addresses in Puerto Rico each year. The ACS also collects detailed socioeconomic data from about 170,000 residents living in group quarters facilities in the United States and about 900 in Puerto Rico. The ACS is now the only source of comparable data about social, economic, housing, and demographic characteristics for small areas and small subpopulations across the nation and in Puerto Rico. Every community in the nation continues to receive a detailed, statistical portrait of its social, economic, housing, and demographic characteristics each year through one-year and five-year ACS products.

ACS Contact Strategies for Housing Units

To collect ACS data, the Census Bureau uses a well-researched mail contact strategy to encourage self-response to the survey. For addresses that were mailed survey materials but did not respond by mail, internet, or by calling our telephone questionnaire assistance line, the Census Bureau selects a subsample of all households and assigns them to the the nonresponse follow-up data collection operation. Unmailable household addresses are sampled and also included in the nonresponse follow-up data collection operation.

To encourage self-response in the ACS, the Census Bureau sends up to five mailings to housing units selected to be in the sample. The first mailing, sent to all mailable addresses in the sample, includes an invitation to participate in the ACS online and states that a paper questionnaire will be sent in a few weeks to those unable to respond online. The second mailing is a letter that reminds respondents to complete the survey online, thanks them if they have already done so, and informs them that a paper questionnaire will be sent at a later date if the Census Bureau does not receive their response. In a third mailing, the paper questionnaire package is sent only to those sample addresses that have not completed the online questionnaire within two and a half weeks. The fourth mailing is a postcard that reminds respondents to respond and informs them that an interviewer may contact them if they do not complete the survey. A fifth mailing is a letter sent to respondents who have not completed the survey within five weeks. This letter provides a due date and reminds the respondents to complete their survey to be removed from future contact. The Census Bureau will ask those who fill out the survey online to provide an email address, which will be used to send an email reminder to households that did not complete the online form. The reminder asks them to log back in to finish responding to the survey. If the Census Bureau does not receive a response or if the household refuses to participate, the address may be selected for nonresponse follow-up data collection where the interview can be collected by telephone or personal visit using computer-assisted interviewing.

Some addresses are deemed unmailable because the address is incomplete or directs mail only to a post office box. The Census Bureau currently collects data for these housing units using both online and computer-assisted personal interviewing. A small sample of respondents from the nonresponse follow-up data collection interview are recontacted for quality assurance purposes.

PRCS Contact Strategies for Housing Units

For sample housing units in the Puerto Rico Community Survey, a different mail strategy is employed. The Census Bureau sends up to five mailings to a Puerto Rico address selected to be in the sample. The first mailing includes a prenotice letter. The second and fourth mailings include the paper questionnaire. The third and fifth mailings serve as a reminder to respond to the survey. The mail strategy has no references to an internet response option. If the Census Bureau does not receive a response or if the household refuses to participate, the address may be selected for non-response follow-up data collection where the interview can be collected by telephone or personal visit using computer-assisted interviewing technology.

Puerto Rico addresses deemed unmailable because the address is incomplete or directs mail only to a post office box are collected by computer-assisted personal interviewing. A small sample of respondents from the nonresponse follow-up data collection interview are recontacted for quality assurance purposes.

ACS/PRCS Contact Strategy for Group Quarters

The Census Bureau collects data for group quarters through personal interview, online, or by paper. The Census Bureau can obtain the facility information by allowing the group quarters contact to upload the roster of residents online or by conducting a personal visit interview with a group quarters contact. Once the interviewer obtains the roster of residents, they can randomly select residents for person-level interviews. During the person-level phase, a computer-assisted personal interviewing instrument is used to collect detailed information for each sampled resident. Interviewers also have the option to distribute a bilingual (English/Spanish) questionnaire to residents for self-response if unable to complete a computer-assisted personal interviewing interview. Residents in some group quarters will have the option to self-respond to the survey online. A small sample of respondents are recontacted for quality assurance purposes.

Statistics produced from the ACS program may include a combination of data collected on the survey from respondents as well as administrative data from other sources.

Affected Public: Individuals or households.

Frequency: Monthly.

Respondent's Obligation: Mandatory.

Legal Authority: Title 13 U.S.C. 141, 193, 221, and 223.

This information collection request may be viewed at www.reginfo.gov. Follow the instructions to view the Department of Commerce collections currently under review by OMB.

Written comments and recommendations for the proposed information collection should be submitted within 30 days of the publication of this notice on the following website https://www.reginfo.gov/public/do/PRAMain for the particular information collection by selecting “Currently under 30-day Review—Open for Public Comments” or by using the search function and entering either the title of the collection or the OMB Control Number 0607-0810.

Sheleen Dumas,
Department PRA Clearance Officer, Office of the Under Secretary for Economic Affairs, Commerce Department.

[FR Doc. 2024-06256 Filed 3-22-24; 8:45 am]

BILLING CODE 3510-07-P